DEPARTMENT OF DEFENSE

Office of the Secretary

[Docket ID: DoD-2015-OS-0121]

Privacy Act of 1974; System of Records

AGENCY: Office of the Secretary of Defense, DoD.

ACTION: Notice to alter a system of records.

SUMMARY: The Office of the Secretary of Defense proposes to alter a system of records, DWHS P50, entitled “iCompass, Learning Management System (LMS)” to manage and administer a Learning Management System (LMS) for training and development programs; to identify individual training needs; for the purpose of reporting, tracking, assessing and monitoring training events, and DoD FM certifications.

DATES: Comments will be accepted on or before December 7, 2015. This proposed action will be effective the date following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at the Defense Privacy and Civil Liberties Division Web site at http://dpcld.defense.gov/.

The proposed system report, as required by U.S.C. 552a(r) of the Privacy Act of 1974, as amended, was submitted on October 30, 2015, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: October 30, 2015.
Aaron Siegel,
Alternate OSD Federal Register Liaison Officer, Department of Defense.

DWHS P50

SYSTEM NAME:

iCompass, Learning Management System (LMS) (July 23, 2013, 78 FR 44100)

CHANGES:

* * * * *

CATEGORIES OF INDIVIDUALS COVERED BY THE SYSTEM:

Delete entry and replace with “Civilians, military members, and contractors assigned to the following Office of the Secretary of Defense (OSD) offices: Acquisition Technology and Logistics; U.S. Court of Appeals for Armed Forces (CAAF); DoD Comptroller Office; Deputy Chief Management Officer; Office of Military Commissions; Defense Legal Services Agency/Defense Office of Hearings and Appeals; Defense Security Cooperation Agency (DSCA); Defense Test Resource Management Center (DTRMC); Defense Technology Security Administration (DTSA); Intelligence Oversight; Office of the Assistant Secretary of Defense (OASD) Legislative Affairs; Net Assessment; DoD Chief Information Office; Office of Economic Adjustment; DoD Office of General Counsel; OSD Operation Test & Evaluation; Office of the Under Secretary of Defense (OUSD) Intelligence; Cost Assessment and Program Evaluation; Pentagon Force Protection Agency; OUSD Policy; Department of Defense Prisoner of War/Missing in Action Accounting Agency; Personnel and Readiness; Assistant to the Secretary of Defense for Public Affairs; White House Military Office; Washington Headquarters Services (WHS); WHS Federal Voting Assistance Program; WHS Welfare & Recreation Association; and Military and DoD civilian financial managers.”

CATEGORIES OF RECORDS IN THE SYSTEM:

Delete entry and replace with “Name, DoD identification (DoD ID) number, position title, work phone number, work email address, pay plan, series, grade, organization, supervisor, hire date, course name and course date and time of completed trainings, educational level of civilian employees, and Financial Management (FM) certification level.”

AUTHORITY FOR THE MAINTENANCE OF THE SYSTEM:

Delete entry and replace with “5 U.S.C. Chapter 41, Government Employees Training Act; 5 CFR part 410, Office of Personnel Management-Training; DoDD 5105.53, Director of Administration and Management (DA&M); DoDD 5110.4, Washington Headquarters Services (WHS); and DoDI 1300.26, Operation of the DoD Financial Management Certification Program.”

* * * * *

ROUTINE USES OF RECORDS MAINTAINED IN THE SYSTEM, INCLUDING CATEGORIES OF USERS AND THE PURPOSES OF SUCH USES:

Delete entry and replace with “In addition to those disclosures generally permitted under 5 U.S.C. 552a(b) of the Privacy Act of 1974, as amended, the records contained herein may specifically be disclosed outside the DoD as a routine use pursuant to 5 U.S.C. 552(b)(3) as follows:

LAW ENFORCEMENT ROUTINE USE:

If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

CONGRESSIONAL INQUIRIES DISCLOSURE ROUTINE USE:

Disclosure from a system of records maintained by a DoD Component may be made to a congressional office from the record of an individual in response to an inquiry from the congressional office made at the request of that individual.

DISCLOSURE TO THE DEPARTMENT OF JUSTICE FOR LITIGATION ROUTINE USE:

A record from a system of records maintained by a DoD Component may be disclosed as a routine use to any component of the Department of Justice for the purpose of representing the Department of Defense, or any officer, employee or member of the Department in pending or potential litigation to which the record is pertinent.

DISCLOSURE OF INFORMATION TO THE NATIONAL ARCHIVES AND RECORDS ADMINISTRATION ROUTINE USE:

A record from a system of records maintained by a DoD Component may be disclosed as a routine use to the National Archives and Records Administration for the purpose of records management inspections conducted under authority of 44 U.S.C. 2904 and 2906.

DATA BREACH REMEDIATION PURPOSES ROUTINE USE:

A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.

The DoD Blanket Routine Uses set forth at the beginning of the Office of the Secretary of Defense (OSD) compilation of systems of records notices may apply to this system. The complete list of DoD Blanket Routine Uses can be found online at: http://dpcld.defense.gov/Privacy/SORNsIndex/BlanketRoutineUses.aspx”

* * * * *

SYSTEM MANAGER(S) AND ADDRESS:

Delete entry and replace with “Program Manager, Washington Headquarters Services, Human Resource Directorate (HRD)/Transparency and Tools Division (TTD), 4800 Mark Center Drive, Alexandria, VA 22350-3200.”

* * * * *

[FR Doc. 2015-28192 Filed 11-4-15; 8:45 am]

BILLING CODE 5001-06-P